DEPARTMENT OF THE INTERIOR

National Indian Gaming Commission

25 CFR Parts 502, 542, 543, 546, and 547

Notice of Extension of Comment Period

AGENCY: National Indian Gaming Commission, DOI.

SUMMARY: This notice extends the period for comments on the proposed definition for electronic or electromechanical facsimile (72 FR 60482), Class II game classification standards (72 FR 60483), Class II technical standards (72 FR 60495), and Class II minimum internal control standards (72 FR 60508) published in the Federal Register on October 24, 2007.

DATES: The comment period for the proposed definition for electronic or electromechanical facsimile, Class II game classification standards, Class II technical standards, and Class II minimum internal control standards regulations is extended from December 10, 2007, to January 24, 2008.

FOR FURTHER INFORMATION CONTACT: Penny Coleman, John Hay, or Michael Gross at 202/632-7003; fax 202/632-7066 (these are not toll-free numbers).

SUPPLEMENTARY INFORMATION: Congress established the National Indian Gaming Commission (NIGC or Commission) under the Indian Gaming Regulatory Act of 1988 (25 U.S.C. 2701 et seq.) (IGRA) to regulate gaming on Indian lands. On October 24, 2007, the proposed definition for electronic or electromechanical facsimile (72 FR 60482), Class II game classification standards (72 FR 60483), Class II technical standards (72 FR 60495), and Class II minimum internal control standards (72 FR 60508) regulations were published in the Federal Register.

Dated: November 5, 2007.
Philip N. Hogen,
Chairman, National Indian Gaming Commission.
Cloyce V. Choney,
Vice Chairman, National Indian Gaming Commission.
Norman H. DesRosiers,
Commissioner, National Indian Gaming Commission.

2

[FR Doc. E7-22409 Filed 11-15-07; 8:45 am]

BILLING CODE 7565-01-P